DEPARTMENT OF JUSTICE

National Institute of Corrections

Solicitation for a Cooperative Agreement: Quarterly Publication of a “Corrections Mental Health Newsletter”

AGENCY: National Institute of Corrections, Department of Justice.

ACTION: Solicitation for a cooperative agreement.

SUMMARY: The National Institute of Corrections (NIC) is soliciting proposals from organizations, groups or individuals to enter into a cooperative agreement for a twelve-month period to publish a “Corrections Mental Health Newsletter” on a quarterly basis providing up-to-date information, news, research, relevant issues, highlighted training and programs, etc. to a correctional audience responsible for, and interested in mental health issues in community corrections, prisons and jails. It is expected that such a newsletter will be published quarterly with the first publication anticipated to be released in February/March 2010 and continue quarterly thereafter for the calendar year. The recipient of this award may be awarded a cooperative agreement for up to two successive years in 2011 and 2012 to continue the publication.

DATES: Applications must be received by 2 p.m. EDT on Friday, January 15, 2010.

ADDRESSES: Mailed applications must be sent to: Director, National Institute of Corrections, 320 First Street, NW., Room 5007, Washington, DC 20534. Applicants are encouraged to use Federal Express, UPS, or similar service to ensure delivery by the due date.

Hand delivered applications should be brought to 500 First Street, NW., Washington, DC 20534. At the front desk, dial 7-3106, extension 0 for pickup.

Faxed applications will not be accepted. Electronic applications can be submitted via http://www.grants.gov.

FOR FURTHER INFORMATION CONTACT: A copy of this announcement can be downloaded from the NIC Web page at http://www.nicic.gov.

All technical or programmatic questions concerning this announcement should be directed to Michael Dooley, Correctional Program Specialist (CPS), National Institute of Corrections (NIC) at mdooley@bop.gov.

SUPPLEMENTARY INFORMATION: Overview: The overall goal of the initiative is to provide corrections mental health professionals, practitioners, policy makers and others with an interest in mental health and corrections an up-to-date outlet for communicating relevant, comprehensive and timely information on issues and resources pertaining to mental illness and mental health issues in jails, prisons and community corrections.

Background: Substantial numbers of persons with mental illness have found their way into all areas of the criminal justice system including corrections. According to the New Freedom Commission on Mental Health: Subcommittee on Criminal Justice, “people with serious mental illnesses who come in contact with the criminal justice system are typically poor and uninsured, are disproportionately members of minority groups, and often are homeless and have co-occurring substance abuse and mental disorders. They cycle in and out of homeless shelters, hospitals, and jails, occasionally receiving mental health, substance abuse services, but most likely receiving no services at all (APA, 2000).” The large and disproportionate number of offenders under correctional custody and supervision continues to be a serious management and safety problem in both our correctional institutions and our communities. This is not a new problem and has been a trend over the past four decades.

A new study conducted by the Council of State Governments Justice Center, in partnership with Policy Research Associates on the prevalence of adults with serious mental illnesses in jails released in the summer of 2009 found that more than 20,000 adults entering five local jails document serious mental illnesses in 14.5 percent of the men and 31 percent of the women, rates in excess of three to six times those found in the general population. Prevalence estimates for females were double those for male inmates. This gender difference is particularly important given the rising number of women in U.S. jails. These findings represent the most reliable estimates in the last 20 years of rates of serious mental illness among adults entering jails. (Steadman, Osher, Robbins, Case and Samuels, June 2009)

In a NIC 2008 Needs Assessment, interviewees noted that problems with mental illness continue to challenge both prison and jail operations, and there is a critical need for more collaboration with providers of services for the mentally ill and a review of policies driving them into the corrections system. According to the 2005 NIC Needs Assessment “Adequacy of offender mental health care” was the second highest (2.48) concern to senior corrections officials (Clem and Eggers, 2005).

The challenges to corrections are significant and multi-faceted. This frequent involvement with the criminal justice system will continue to have a significant adverse impact on corrections, public safety and government spending, not to mention the devastating impact for these individuals and their families. The mentally ill offender, along with the professionals and practitioners who make policy and make operational decisions, need a conduit and voice for the current news, trends and issues. It is about being routinely informed so that best policy, best practice and best responses emerge as the foundation for managing mentally ill offenders in jails, prisons and community corrections.

Project Deliverables: The following are the expected products and services for the project: Publish four quarterly “News Letter” over one calendar year; Develop a layout format and prototype of the newsletter; Develop a method and conduct a comprehensive survey of the corrections mental health field for trends and issues that can generate topics and items for the publication; Develop and maintain a targeted distribution list of corrections mental health professionals and community websites that reach these practitioners (e.g., NIC Web site, CMHS GAINS Center website, National Commission on Correctional Health Care Web site, etc.); and Distribute the publication at no charge to recipients.

Publication Specifications: The newsletter publication must be designed and developed adhering to the following standards and specifications: Make available in either HTML or PDF format for electronic distribution.

Note: The format will depend on further consultation with NIC Information Center staff and NIC publications staff (must follow the Guidelines for Preparing and Submitting Manuscripts for Publication as found in the “General Guidelines for Cooperative Agreements” which will be included in the award package); adhere to best practice technical and editing standards and formats for this type of electronic newsletter; publication content and topics must span and attend to the interest of the broad array of correctional stakeholders including jails, prisons, and community corrections. Topics and items published must focus on current issues pertaining to corrections and mental health, and may include but not be limited to, feature articles on NIC initiatives and work, innovative work and programs, demonstrated best practices, current research trends, legal issues, scheduled events/workshops/conferences, and articles from practitioners in the field.

Work Requirements: The recipient of this cooperative agreement award must, at a minimum, do the following within the scope of performing work on this project:

Consult with the Correctional Program Specialist (CPS) assigned to manage the cooperative agreement to ensure understanding of, and agreement on, the scope of work to be performed;

Consult and work with the NIC Information Center for posting and availability through the website including the Corrections Community, Corrections News, and Blogs. The applicant can visit the NIC Web site at http://www.nicic.gov/.

Submit a detailed work plan with time lines and milestones for accomplishing project activities to the assigned CPS for approval prior to any work to be performed under this agreement;

Designate a point of contact, which would serve as the conduit of information and work between the CPS and the awardee;

Submit a layout and prototype to the CPS/Project Manager or designee for approval before the first edition is published.

Consult periodically with the CPS/Project Manager or designee on the proposed content for the newsletter.

Required Expertise: The successful applicant will need the skills, abilities and knowledge in the following areas: Knowledge of mental illness and mental health issues in jails, prisons and community corrections, or be able to access such knowledge and expertise; knowledge and skill in designing, editing and publishing an electronic newsletter; knowledge and skills in soliciting content, articles and features for inclusion in the newsletter; project management experience; effective written and oral communication skills.

Application Requirements: Applications should be concisely written, typed double spaced and reference the “NIC Opportunity Number” and Title provided in this announcement. The application package must include: OMB Standard Form 424, Application for Federal Assistance; a cover letter that identifies the audit agency responsible for the applicant's financial accounts as well as the audit period of fiscal year that the applicant operates under (e.g., July 1 through June 30), an outline of projected costs, and the following forms: OMB Standard Form 424A, Budget Information—Non Construction Programs, OMB Standard Form 424B, Assurances—Non Construction Programs (available at http://www.grants.gov), and DOJ/NIC Certification Regarding Lobbying; Debarment, Suspension and Other Responsibility Matters; and Drug-Free Workplace Requirements (available at http://www.nicic.gov/Downloads/PDF/certif-frm.pdf).

Applications may be submitted in hard copy, or electronically via http://www.grants.gov. If submitted in hard copy, there needs to be an original and three copies of the full proposal (program and budget narratives, application forms and assurances). The original should have the applicant's signature in blue ink. The program narrative text must be limited to no more than 10 double spaced pages, exclusive of resumes and summaries of experience.

A sample of a prior or proposed newsletter publication including format done by the applicant is preferred as a supplement to the application. Please do not submit full curriculum vitae.

A Web conference will be conducted for persons with the intent to respond to the solicitation on Friday, December 18, 2009 at 12 p.m. EDT. In this conference NIC project managers will respond to questions regarding the solicitation and expectations of work to be performed. You must pre-register to attend the conference. To register for the Web conference go to: https://nic.webex.com/nic/onstage/g.php?t=a&d=718386703 and follow the registration instructions. You will be provided further instructions for accessing the session once you have registered for the Web-conference.

Authority: Public Law 93-415.

Funds Available: NIC is seeking the applicant's best ideas regarding accomplishment of the scope of work and the related costs for achieving the goals of this solicitation. Funds may only be used for the activities that are linked to the desired outcome of the project.

Eligibility of Applicants: An eligible applicant is any private agency, educational institution, organization, individual or team with expertise in the described areas.

Review Considerations: Applications received under this announcement will be subjected to a 3 to 5 person NIC Peer Review Process.

Note: NIC will NOT award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CCR can be done online at the CCR Web site: http://www.ccr.gov. A CCR Handbook and worksheet can also be reviewed at the Web site.

Number of Awards: One.

NIC Opportunity Number: 10P08. This number should appear as a reference line in the cover letter, where indicated on Standard Form 424, and outside of the envelope in which the application is sent.

Catalog of Federal Domestic Assistance Number: 16.601.

Executive Order 12372: This project is not subject to the provisions of Executive Order 12372.

Morris L. Thigpen,
Director, National Institute of Corrections.

[FR Doc. E9-29004 Filed 12-3-09; 8:45 am]

BILLING CODE 4410-36-P